COMMODITY FUTURES TRADING COMMISSION

Sunshine Act Meeting

Time and Date: 10 a.m., Thursday, May 30, 2002.

Place: 1155 21st Street, NW., Washington, DC, Room 1000.

Status: Open.

Matters to be Considered: Securities Futures Products Rulemakings.

CONTACT PERSON FOR FURTHER INFORMATION: Jean A. Webb, 202-418-5100.

Jean A. Webb,
Secretary of the Commission.

[FR Doc. 02-13194 Filed 5-21-02; 4:58 pm]

BILLING CODE 6351-01-M